DEPARTMENT OF TRANSPORTATION

Federal Aviation Administration

14 CFR Part 39

[Docket No. FAA-2020-0105; Product Identifier 2019-NM-172-AD; Amendment 39-19851; AD 2020-04-12]

RIN 2120-AA64

Airworthiness Directives; Fokker Services B.V. Airplanes

AGENCY: Federal Aviation Administration (FAA), DOT.

ACTION: Final rule; request for comments.

SUMMARY: The FAA is superseding Airworthiness Directives (ADs) 2012-22-05 and 2018-19-03, which applied to certain Fokker Services B.V. Model F28 Mark 0070 and 0100 airplanes. AD 2012-22-05 required inspecting for cracks of the pistons on the main landing gear (MLG), and replacing the affected pistons if necessary. AD 2012-22-05 also required modifying the MLG, and revising the airplane maintenance program. AD 2018-19-03 required an inspection of the MLG, and replacement if necessary. This AD retains the requirements of AD 2012-22-05, expands the applicability, and requires a new modification or replacement of the MLG; as specified in a European Union Aviation Safety Agency (EASA) AD, which is incorporated by reference. This AD was prompted by a determination that the required heat treatment may not have been applied to certain MLG pistons. The FAA is issuing this AD to address the unsafe condition on these products.

DATES: This AD becomes effective March 24, 2020.

The Director of the Federal Register approved the incorporation by reference of a certain publication listed in this AD as of March 24, 2020.

The FAA must receive comments on this AD by April 23, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the material incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at https://www.regulations.gov by searching for and locating Docket No. FAA-2020-0105.

Examining the AD Docket

You may examine the AD docket on the internet at https://www.regulations.gov by searching for and locating Docket No. FAA-2020-0105; or in person at Docket Operations between 9 a.m. and 5 p.m., Monday through Friday, except Federal holidays. The AD docket contains this AD, the regulatory evaluation, any comments received, and other information. The street address for Docket Operations is listed above. Comments will be available in the AD docket shortly after receipt.

FOR FURTHER INFORMATION CONTACT: Tom Rodriquez, Aerospace Engineer, International Section, Transport Standards Branch, FAA, 2200 South 216th St., Des Moines, WA 98198; telephone and fax 206-231-3226; email tom.rodriguez@faa.gov.

SUPPLEMENTARY INFORMATION:

Discussion

The FAA issued AD 2012-22-05, Amendment 39-17241 (77 FR 68052, November 15, 2012) (“AD 2012-22-05”), and AD 2018-19-03, Amendment 39-19403 (83 FR 46859, September 17, 2018) (“AD 2018-19-03”), which applied to certain Fokker Services B.V. Model F28 Mark 0070 and 0100 airplanes. AD 2012-22-05 required inspecting for cracks of the pistons on the MLG, and replacing the affected pistons if necessary. AD 2012-22-05 also required modifying the MLG, and revising the airplane maintenance program. AD 2018-19-03 required an inspection of the MLG, and replacement if necessary. The FAA issued these ADs to address MLG failure during the landing roll-out, which could result in damage to the airplane and injury to occupants.

Actions Since ADs 2012-22-05 and 2018-19-03 Were Issued

Since ADs 2012-22-05 and 2018-19-03 were issued, the FAA has received a report of a crack found in the lower portion of a left-hand MLG piston; one possible factor was hydrogen-assisted cracking. The FAA determined that the cracked piston was part of a batch of six MLG pistons on which the required heat treatments may not have been applied during overhaul. Another possible contributing factor is that the wire harness port of the MLG piston is a highly stressed area, prone to high-rate crack growth if small surface imperfections are present.

The EASA, which is the Technical Agent for the Member States of the European Union, has issued EASA AD 2019-0224, dated September 6, 2019 (“EASA AD 2019-0224”) (also referred to as the Mandatory Continuing Airworthiness Information, or “the MCAI”), to correct an unsafe condition for all Fokker Services B.V. Model F28 Mark 0070 and 0100 airplanes. EASA AD 2019-0224 supersedes EASA ADs 2011-0159 and 2017-0163 (which correspond to FAA ADs 2012-22-05 and 2018-19-03).

This AD was prompted by a report of a crack found in the lower portion of a left-hand MLG piston, and a determination that the required heat treatment may not have been applied to certain MLG pistons. See the MCAI for additional background information.

Explanation of Retained Requirements

Although this AD does not explicitly restate the requirements of AD 2012-22-05 this AD retains all of the requirements of AD 2012-22-05. Those requirements are referenced in EASA AD 2019-0224, which, in turn, is referenced in paragraph (g) of this AD. This AD retains none of the requirements of AD 2018-19-03.

Related IBR Material Under 1 CFR Part 51

EASA AD 2019-0224 describes procedures for repetitive inspections of the MLG pistons for cracks, replacing cracked MLG pistons, and modifying the MLG by replacing each affected part (MLG piston or MLG unit) with a serviceable part or replacing each affected MLG unit with a serviceable unit.

This material is reasonably available because the interested parties have access to it through their normal course of business or by the means identified in the ADDRESSES section.

FAA's Determination

This product has been approved by the aviation authority of another country, and is approved for operation in the United States. Pursuant to a bilateral agreement with the State of Design Authority, the FAA has been notified of the unsafe condition described in the MCAI referenced above. The FAA is issuing this AD because the agency evaluated all pertinent information and determined the unsafe condition exists and is likely to exist or develop on other products of the same type design.

Requirements of This AD

This AD requires accomplishing the actions specified in EASA AD 2019-0224 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2019-0224 is incorporated by reference in this AD. This AD, therefore, requires compliance with EASA AD 2019-0224 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2019-0224 that is required for compliance with EASA AD 2019-0224 will be available on the internet at https://www.regulations.gov by searching for and locating Docket No. FAA-2020-0105 after the FAA final rule is published.

FAA's Justification and Determination of the Effective Date

Since there are currently no domestic operators of these products, notice and opportunity for public comment before issuing this AD are unnecessary. In addition, for the reasons stated above, the FAA finds that good cause exists for making this amendment effective in less than 30 days.

Comments Invited

This AD is a final rule that involves requirements affecting flight safety, and the FAA did not precede it by notice and opportunity for public comment. The FAA invites you to send any written relevant data, views, or arguments about this AD. Send your comments to an address listed under the ADDRESSES section. Include “Docket No. FAA-2020-0105; Product Identifier 2019-NM-172-AD” at the beginning of your comments. The FAA specifically invites comments on the overall regulatory, economic, environmental, and energy aspects of this AD. The FAA will consider all comments received by the closing date and may amend this AD based on those comments.

The FAA will post all comments received, without change, to https://www.regulations.gov, including any personal information you provide. The FAA will also post a report summarizing each substantive verbal contact received about this AD.

Costs of Compliance

Currently, there are no affected U.S.-registered airplanes. If an affected airplane is imported and placed on the U.S. Register in the future, the FAA provide the following cost estimates to comply with this AD:

Estimated Costs for Required Actions
Action | Labor cost | Parts cost | Cost per product
Retained actions from AD 2012-22-05 | 24 work-hours × $85 per hour = $2,040 | $0 | $2,040
New actions | 24 work-hours × $85 per hour = $2,040 | 0 | 2,040

The FAA has received no definitive data that would enable the agency to provide cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-22-05, Amendment 39-17241 (77 FR 68052, November 15, 2012), and AD 2018-19-03, Amendment 39-19403 (83 FR 46859, September 17, 2018), and adding the following new AD:

2020-04-12 Fokker Services B.V.: Amendment 39-19851; Docket No. FAA-2020-0105; Product Identifier 2019-NM-172-AD.

(a) Effective Date

This AD becomes effective March 24, 2020.

(b) Affected ADs

This AD replaces AD 2012-22-05, Amendment 39-17241 (77 FR 68052, November 15, 2012) (“AD 2012-22-05”), and AD 2018-19-03, Amendment 39-19403 (83 FR 46859, September 17, 2018) (“AD 2018-19-03”).

(c) Applicability

This AD applies to all Fokker Services B.V. Model F28 Mark 0070 and 0100 airplanes, certificated in any category.

(d) Subject

Air Transport Association (ATA) of America Code 32, Landing gear.

(e) Reason

This AD was prompted by a report of a crack found in the lower portion of a left-hand main landing gear (MLG) piston, and a determination that the required heat treatment may not have been applied to certain MLG pistons. The FAA is issuing this AD to address MLG failure during the landing roll-out, which could result in damage to the airplane and injury to occupants.

(f) Compliance

Comply with this AD within the compliance times specified, unless already done.

(g) Requirements

Except as specified in paragraph (h) of this AD: Comply with all required actions and compliance times specified in, and in accordance with, European Union Aviation Safety Agency (EASA) AD 2019-0224, dated September 6, 2019 (“EASA AD 2019-0224”).

(h) Exceptions to EASA AD 2019-0224

(1) Where EASA AD 2019-0224 refers to its effective date, this AD requires using the effective date of this AD.

(2) Where EASA AD refers to the effective date of EASA AD 2011-0159, this AD requires using December 20, 2012 (the effective date of AD 2012-22-05).

(3) The “Remarks” section of EASA AD 2019-0224 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2012-22-05 are approved as AMOCs for the corresponding provisions of EASA AD 2019-0224 that are required by paragraph (g) of this AD.

(2) Contacting the Manufacturer: For any requirement in this AD to obtain instructions from a manufacturer, the instructions must be accomplished using a method approved by the Manager, International Section, Transport Standards Branch, FAA; or EASA; or Fokker Services B.V.'s EASA Design Organization Approval (DOA). If approved by the DOA, the approval must include the DOA-authorized signature.

(j) Related Information

For more information about this AD, contact Tom Rodriquez, Aerospace Engineer, International Section, Transport Standards Branch, FAA, 2200 South 216th St., Des Moines, WA 98198; telephone and fax 206-231-3226; email tom.rodriguez@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 13, 2020.

(i) European Union Aviation Safety Agency (EASA) AD 2019-0224, dated September 6, 2019.

(ii) [Reserved]

(4) For information about EASA AD 2019-0224, contact the EASA, Konrad-Adenauer-Ufer 3, 50668 Cologne, Germany; telephone +49 221 89990 6017; email ADs@easa.europa.eu; internet www.easa.europa.eu. You may find this EASA AD on the EASA website at https://ad.easa.europa.eu.

(5) You may view this material at the FAA, Transport Standards Branch, 2200 South 216th St., Des Moines, WA. For information on the availability of this material at the FAA, call 206-231-3195. This material may be found in the AD docket on the internet at https://www.regulations.gov by searching for and locating Docket No. FAA-2020-0105.

(6) You may view this material that is incorporated by reference at the National Archives and Records Administration (NARA). For information on the availability of this material at NARA, email fedreg.legal@nara.gov, or go to: https://www.archives.gov/federal-register/cfr/ibr-locations.html.

Issued on February 20, 2020.
Lance T. Gant,
Director, Compliance & Airworthiness Division, Aircraft Certification Service.

[FR Doc. 2020-04729 Filed 3-6-20; 8:45 am]

BILLING CODE 4910-13-P